FEDERAL COMMUNICATIONS COMMISSION

47 CFR Part 73

[DA 02-1246; MB Docket No. 02-120, RM-10442; MB Docket No. 02-121, RM-10443; MB Docket No. 02-122, RM-10444; MB Docket No. 02-123, RM-10445; MB Docket No. 02-124, RM-10446; MB Docket No. 02-125, RM-10447; MB Docket No. 02-126, RM-10448; MB Docket No. 02-127, RM-10449; MB Docket No. 02-128, RM-10450]

Radio Broadcasting Services; Amboy, CA; Lone Pine, CA; Roundup, MT; Hartington, NE; Sutton, NE; Wynnewood, OK; Terrebonne, OR; Centerville, TX; and Owen, WI

AGENCY: Federal Communications Commission.

ACTION: Proposed rule.

SUMMARY: This document proposes nine allotments in Owen, WI; Hartington, NE; Lone Pine, CA; Terrebonne, OR; Amboy, CA; Sutton, NE; Wynnewood, OK; Roundup, MT; and Centerville, TX. The Commission requests comment on a petition filed by Starboard Broadcasting, Inc. proposing the allotment of Channel 242C3 at Owen, Wisconsin, as the community's first local aural broadcast service. Channel 242C3 can be allotted to Owen in compliance with the Commission's minimum distance separation requirements with a site restriction of 12.9 km (8.0 miles) northeast of Owen at reference coordinates of 45-03-08 North Latitude and 90-29-21 West Longitude. See SUPPLEMENTARY INFORMATION infra.

DATES: Comments must be filed on or before July 15, 2002, and reply comments on or before July 30, 2002.

ADDRESSES: Federal Communications Commission, Washington, DC 20554. In addition to filing comments with the FCC, interested parties should serve the petitioners as follows: Steven Gajdosik, Vice President and Director, Starboard Broadcasting, Inc., 2470 Crooks Avenue, Kaukauna, Wisconsin 54130; Jeff Barth, 4937 Heathmoore Court, Louisville, Kentucky 40241; Virgil Todd, 640 South 2nd Street, Unit #4, Louisville, Kentucky 40202; Scott C. Cinnamon (Counsel for Hunt Broadcasting, Inc.), Law Offices of Scott C. Cinnamon, PLLC, 1090 Vermont Avenue, Suite 800, Washington, DC 20005; Marissa G. Repp and F. William LeBeau (Counsel for KHWY, Inc.), Hogan & Hartson, L.L.P., 555 Thirteenth Street, NW., Washington, DC 20004-1109; Allison J. Shapiro and Frank R. Jazzo (Counsel for Sutton Radio Company), Fletcher, Heald, & Hildreth, P.L.C., 1300 North 17th Street, 11th Floor, Arlington, Virginia 22209; David P. Garland, 1110 Hackney Street, Houston, Texas 77023; and William J. Edwards, 706 Main, Roundup, Montana 59072.

FOR FURTHER INFORMATION CONTACT: Deborah A. Dupont, Media Bureau (202) 418-7072.

SUPPLEMENTARY INFORMATION: This is a synopsis of the Commission's Notice of Proposed Rule Making, MB Docket Nos 02-120, 02-121, 02-122, 02-123, 02-124, 02-125, 02-126, 02-127, and 02-128, adopted May 15, 2002, and released May 24, 2002. The full text of this Commission decision is available for inspection and copying during normal business hours in the FCC Reference Information Center (Room CY-A257), 445 12th Street, SW., Washington, DC The complete text of this decision may also be purchased from the Commission's copy contractor, Qualex International, Portals II, 445 12th Street, SW., Room CY-B402, Washington, DC 20554, telephone (202) 863-2893.

The Commission further requests comment on a petition filed by Jeff Barth proposing the allotment of Channel 232A at Hartington, Nebraska, as the community's first aural broadcast service. Channel 232A can be allotted to Hartington in compliance with the Commission's minimum distance separation requirements with no site restriction at center city reference coordinates of 42-37-21 North Latitude and 97-15-51 West Longitude.

The Commission further requests comment on a petition filed by Virgil Todd proposing the allotment of Channel 249A at Lone Pine, California, as the community's first local broadcast service. Channel 249A can be allotted to Lone Pine in compliance with the Commission's minimum distance separation requirements with no site restriction at center city reference coordinate of 36-36-22 North Latitude and 118-03-43 West Longitude.

The Commission further requests comment on a petition filed by Hunt Broadcasting, Inc. proposing the allotment of Channel 293C2 at Terrebonne, Oregon, as the community's first local aural broadcast service. Channel 293C2 can be allotted to Terrebonne in compliance with the Commission's minimum distance separation requirements with a site restriction of 19.8 km (12.3 miles) southeast of Terrebonne at reference coordinates of 44-14-50 North Latitude and 120-58-39 West Longitude.

The Commission further requests comment on a petition filed by KHWY, Inc. proposing the allotment of Channel 237A at Amboy, California, as the community's first local aural broadcast service. Channel 237A can be allotted to Amboy in compliance with the Commission's minimum distance separation requirements with a site restriction of 7.4 km (4.6 miles) northeast of Amboy at reference coordinates of 34-36-00 North Latitude and 115-40-52 West Longitude.

The Commission further requests comment on a petition filed by Sutton Radio Company proposing the allotment of Channel 278C2 at Sutton, Nebraska, as the community's first local aural broadcast service. Channel 278C2 can be allotted to Sutton in compliance with the Commission's minimum distance separation requirements with a site restriction of 17.1 km (10.6 miles) west of Sutton at reference coordinates of 40-36-06 North Latitude and 98-03-38 West Longitude.

The Commission further requests comment on a petition filed by David P. Garland proposing the allotment of Channel 266A at Wynnewood, Oklahoma, as the community's second local FM broadcast service. Channel 266A can be allotted to Wynnewood in compliance with the Commission's minimum distance separation requirements with a site restriction of 6.7 km (4.2 miles) east of Wynnewood at reference coordinates of 34-38-23 North Latitude and 97-05-38 West Longitude.

The Commission further requests comment on a petition filed by William J. Edwards proposing the allotment of Channel 248A at Roundup, Montana, as the community's first local aural broadcast service. Channel 248A can be allotted to Roundup in compliance with the Commission's minimum distance separation requirements with a site restriction of 1.0 km (0.6 miles) northeast of Roundup at reference coordinates of 46-26-58 North Latitude and 108-31-44 West Longitude. The proposed allotment will require concurrence by Canada because it is located within 320 kilometers (199 miles) of the Canadian border.

The Commission further requests comment on a petition filed by David P. Garland proposing the allotment of Channel 274A at Centerville, Texas, as the community's third local FM broadcast service. Channel 274A can be allotted to Centerville in compliance with the Commission's minimum distance separation requirements with a site restriction of 5.4 km (3.3 miles) east of Centerville at reference coordinates of 31-14-49 North Latitude and 95-55-23 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under California, is amended by adding Amboy, Channel 237A, and Lone Pine, Channel 249A.

3. Section 73.202(b), the Table of FM Allotments under Montana, is amended by adding Roundup, Channel 248A.

4. Section 73.202(b), the Table of FM Allotments under Nebraska, is amended by adding Hartington, Channel 232A, and Sutton, Channel 278C2.

5. Section 73.202(b), the Table of FM Allotments under Oklahoma, is amended by adding Channel 266A at Wynnewood.

6. Section 73.202(b), the Table of FM Allotments under Oregon, is amended by adding Terrebonne, Channel 293C2.

7. Section 73.202(b), the Table of FM Allotments under Texas, is amended by adding Channel 274A at Centerville.

8. Section 73.202(b), the Table of FM Allotments under Wisconsin, is amended by adding Owen, Channel 242C3.

Federal Communications Commission.
John A. Karousos,
Assistant Chief, Audio Division, Office of Broadcast License Policy, Media Bureau.

[FR Doc. 02-15213 Filed 6-17-02; 8:45 am]

BILLING CODE 6712-01-P